Title 3—

The President

Proclamation 10395 of May 13, 2022

Emergency Medical Services Week, 2022

By the President of the United States of America

A Proclamation

Every day, emergency medical service (EMS) providers put the needs of their communities above their own as they respond to crises, treat injuries, and save lives. Their heroism has been on full display throughout the COVID-19 pandemic, as resilient EMS workers across the country have provided essential care to Americans. This year's Emergency Medical Services Week theme, “Rising to the Challenge,” pays tribute to the brave frontline professionals who work tirelessly to help their fellow Americans get immediate medical attention in their hours of greatest need.

With compassion, determination, and skill, EMS providers embody the best of our Nation—from paramedics, 911 dispatchers, and emergency medical technicians to nurses, law enforcement officers, and firefighters. Collectively, they distributed COVID-19 vaccinations, provided aid after medical emergencies and disasters, and eased our suffering in countless ways. The unwavering commitment of EMS providers to public service often comes at the cost of their own physical well-being, mental health, and precious time with loved ones.

That is why my American Rescue Plan included billions of dollars to support women and men who serve in EMS roles. I have also made it a priority to ensure that our State, local, Tribal, and territorial partners have the resources they need to train and equip EMS providers so they can respond to public health emergencies safely and effectively.

During Emergency Medical Services Week, we share our appreciation for the selfless EMS professionals who provide lifesaving services every day and risk their lives each time they answer the call of service. We also honor the EMS providers who have made the ultimate sacrifice in the line of duty to protect their fellow Americans. Our Nation owes a tremendous debt of gratitude to these heroes and their loved ones. May God bless our Nation's EMS workers and their families.

NOW, THEREFORE, I, JOSEPH R. BIDEN JR., President of the United States of America, by virtue of the authority vested in me by the Constitution and the laws of the United States, do hereby proclaim May 15 through May 21, 2022, as National Emergency Medical Services Week. I call upon public officials, doctors, nurses, paramedics, EMS providers, and all the people of the United States to observe this week with appropriate programs, ceremonies, and activities to honor our brave EMS workers and to pay tribute to the EMS providers who lost their lives in the line of duty.

IN WITNESS WHEREOF, I have hereunto set my hand this thirteenth day of May, in the year of our Lord two thousand twenty-two, and of the Independence of the United States of America the two hundred and forty-sixth.

[FR Doc. 2022-10879

Filed 5-18-22; 8:45 am]

Billing code 3395-F2-P